OFFICE OF PERSONNEL MANAGEMENT

Submission for Review: Revision and Consolidation of Two Existing Information Collections Related to Student Survey Forms

AGENCY: U.S. Office of Personnel Management.

ACTION: 30-Day notice and request for comments.

SUMMARY: Retirement Services, Office of Personnel Management (OPM) offers the general public and other Federal agencies the opportunity to comment on the combined information collection request (ICR) for two forms: RI 25-15, Notice of Change in Student's Status and RI 25-14, Self-Certification of Full-Time School Attendance for the School Year. OPM is looking to combine the two forms into a single form under the OMB control number 3206-0042 and to discontinue the OMB control number 3206-0032.

DATES: Comments are encouraged and will be accepted until December 26, 2025.

ADDRESSES: Written comments and recommendations for the proposed information collection should be sent within 30 days of publication of this notice to http://www.reginfo.gov/public/do/PRAMain. Find this particular information collection request by selecting “Office of Personnel Management” under “Currently under Review—Open for Public Comments” checkbox.

FOR FURTHER INFORMATION CONTACT: For specific questions related to this information collection activities, please contact: Retirement Services Publications Team, Office of Personnel Management, 1900 E Street NW, Room 3316-BD, Washington, DC 20415, Attention: Cyrus S. Benson, or sent via electronic mail to RSPublicationsTeam@opm.gov.

SUPPLEMENTARY INFORMATION: The Office of Personnel Management, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provide the requested data in the desired format. The information collections (OMB Control Nos. 3206-0042 and 3206-0032) were previously published in the Federal Register on June 2, 2025, at 90 FR 23384 and August 17, 2023, at 88 FR 56056, allowing for a 60-day public comment period, respectively. No comments were received for either collection. OPM is looking to combine the two forms into a single form. We are renewing ICR 3206-0042, and 3206-0032 has expired. OPM is requesting to discontinue 3206-0032 and to collect that information under the ICR 3206-0042.

The purpose of this notice is to notify the public that OPM is submitting the information collection to the Office of Management and Budget (OMB) for review and to allow an additional 30 days for public comments. OPM is soliciting comments on the proposed information collection request (ICR) that is described below. Please note that written comments received in response to this notice will be considered public records.

RI 25-14 and RI 25-15 forms are very similar in terms of the information collected from students. Nonetheless, the forms were historically managed under two different information collections. OPM is currently planning to consolidate the forms into a single form. The information collection for form RI 25-14 (OMB Control number 3206-0032) is currently expired with an estimated public burden of 353 hours for 1,764 responses. The information collection for form RI 25-15 (OMB Control number 3206-0042) is expiring at the end of November with an estimated public burden of 835 hours for 2,500 responses. As OPM is proposing to combine these information collections, the estimated public burden for the revised information collection is 1,188 hours for 4,264 responses.

We invite comments that:

1. Evaluate the utility of the changes made to the forms;

2. Evaluate the accuracy of the agency's estimate of the burden of the proposed collection of information, including the validity of the methodology and assumptions used;

3. Suggest ways to enhance the quality, utility, and clarity of the information to be collected; and

4. Suggest ways to minimize the burden of the collection of information on those who are to respond, including using appropriate automated, electronic, mechanical, or other technological collection techniques or other forms of information technology, e.g., permitting electronic submissions of responses.

Analysis

Agency: Retirement Operations, Retirement Services, Office of Personnel Management.

Title: Self-Certification of Full-Time School Attendance for the School Year.

OMB Number: 3206-0042 (requested) and 3206-0032 (discontinued).

Frequency: On occasion.

Affected Public: Individuals or Households.

Number of Respondents: 4,264.

Estimated Time per Respondent: 20 minutes.

Total Burden Hours: 1,421 hours.

U.S. Office of Personnel Management.
Alexys Stanley,
Federal Register Liaison.

[FR Doc. 2025-21207 Filed 11-25-25; 8:45 am]

BILLING CODE 6325-38-P